COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: June 01, 2025.

ADDRESSES: Committee for Purchase From People Who Are Blind or Severely Disabled, 355 E Street SW, Suite 325, Washington, DC 20024.

FOR FURTHER INFORMATION CONTACT: For further information or to submit comments contact: Michael R. Jurkowski, telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s):

7930-00-NIB-0578—Disinfectant, Profect Neutral 256, Cleaner, Neutral, Concentrated, High Dilution

8125-00-NIB-0031—Spray Bottle, High Dilution 256 Neutral Disinfectant, 32 oz. Bottle

Authorized Source of Supply: VisionCorps, Lancaster, PA

Contracting Activity: STRATEGIC ACQUISITION CENTER, FREDERICKSBURG, VA

NSN(s)—Product Name(s):

PSIN 01075B—Safety Guard

PSIN 10307A—Divider, Separation, Letter, Beige

PSIN 01036-F—Marker, I.D., Plastic, Pink

PSIN 01036-E—Marker, I.D., Plastic, Yellow

PSIN 01036-D—Marker, I.D., Plastic, Violet

PSIN 01036-C—Marker, I.D., Plastic, Green

PSIN 01036-B—Marker, I.D., Plastic, Orange

PSIN 01036-A—Marker, I.D., Plastic, Blue

PSIN 01036—Marker, I.D., Plastic, White

PSIN 01037B—Divider, Separation, Beige

Authorized Source of Supply: Human Technologies Corporation, Utica, NY

Contracting Activity: U.S. Postal Service, Eagan, MN, Washington, DC, and Chicago, IL

NSN(s)—Product Name(s):

8340-00-577-4168—(Cotton duck)

8340-00-NSH-0004—(Carrying Bag)

8340-00-NSH-0006—(Repair Kit)

8340-00-NSH-0001—Shelter, Complete, with Repair Kit

Authorized Source of Supply: ORC Industries, Inc., La Crosse, WI

Contracting Activity: DLA TROOP SUPPORT, PHILADELPHIA, PA and COMMANDER, QUANTICO, VA

NSN(s)—Product Name(s):

5510-00-NSH-0041—Lath, Wood

Authorized Source of Supply: Sunrise Enterprises of Roseburg, Inc., Roseburg, OR

Contracting Activity: WILLAMETTE NATIONAL FOREST, SPRINGFIELD, OR

NSN(s)—Product Name(s):

3990-00-NSH-0070—Box, Seedling Growing

3990-00-NSH-0071—Pallet, Greenhouse

Authorized Source of Supply: Sunrise Enterprises of Roseburg, Inc., Roseburg, OR

Contracting Activity: UMPQUA NATIONAL FOREST, ROSEBURG, OR

NSN(s)—Product Name(s):

7690-00-NSH-0007—B212-S

7690-00-NSH-0008—B214-S

Authorized Source of Supply: Alliance, Inc., Baltimore, MD

Contracting Activity: Government Printing Office, Washington, DC

NSN(s)—Product Name(s):

8465-01-314-4286—Carrier, Water Canteen

8465-00-753-6490—Cover, Water Canteen

4240-00-690-8765—Harness, Head, Gas Mask

Authorized Source of Supply: Human Technologies Corporation, Utica, NY

Contracting Activity: DLA TROOP SUPPORT, PHILADELPHIA, PA and W4GG HQ U.S. ARMY TACOM, ROCK ISLAND, IL

NSN(s)—Product Name(s): 5340-00-NSH-0031—Strap, Webbing, 54″ x 1″

Authorized Source of Supply: The Charles Lea Center, Inc., Spartanburg, SC

Contracting Activity: DLA LAND AND MARITIME, COLUMBUS, OH

NSN(s)—Product Name(s):

8415-00-NSH-0083—Drawers, Lightweight Cold Weather, Marine Corps, Long, Brown, XL

8415-00-NSH-0082—Drawers, Lightweight Cold Weather, Marine Corps, Long, Brown, L

8415-00-NSH-0081—Drawers, Lightweight Cold Weather, Marine Corps, Long, Brown, M

8415-00-NSH-0080—Drawers, Lightweight Cold Weather, Marine Corps, Long, Brown, S

8415-00-NSH-0079—Shirt, Underwear, Lightweight Cold Weather, Marine Corps, Long Sleeved, Brown, XL

8415-00-NSH-0078—Shirt, Underwear, Lightweight Cold Weather, Marine Corps, Long Sleeved, Brown, L

8415-00-NSH-0077—Shirt, Underwear, Lightweight Cold Weather, Marine Corps, Long Sleeved, Brown, M

8415-00-NSH-0076—Shirt, Underwear, Lightweight Cold Weather, Marine Corps, Long Sleeved, Brown, S

8415-01-394-3960—Shirt, Underwear, Cold Weather Turtle Neck Undershirt, Army, Unisex, Long Slvd, Olive Drab, Small

8415-01-394-3962—Shirt, Underwear, Cold Weather Turtle Neck Undershirt, Army, Unisex, Long Slvd, Olive Drab, Medium

8415-01-394-3963—Shirt, Underwear, Cold Weather Turtle Neck Undershirt, Army, Unisex, Long Slvd, Olive Drab, Large

8415-01-394-3967—Shirt, Underwear, Cold Weather Turtle Neck Undershirt, Army, Unisex, Long Slvd, Olive Drab, X Large

8415-01-394-4098—Drawers, Cold Weather Drawers, Army, Unisex, Long, Olive Drab, Small

8415-01-394-5411—Drawers, Cold Weather Drawers, Army, Unisex, Long, Olive Drab, Medium

8415-01-394-5412—Drawers, Cold Weather Drawers, Army, Unisex, Long, Olive Drab, Large

8415-01-394-5415—Drawers, Cold Weather Drawers, Army, Unisex, Long, Olive Drab, X Large

Authorized Source of Supply: Peckham Vocational Industries, Inc., Lansing, MI

Contracting Activity: DLA TROOP SUPPORT, PHILADELPHIA, PA

NSN(s)—Product Name(s): 4510-01-631-8255—Dispenser, Stainless Steel, Feminine Hygiene Disposal Bags

Authorized Source of Supply: Envision, Inc., Wichita, KS

Contracting Activity: DLA TROOP SUPPORT, PHILADELPHIA, PA

NSN(s)—Product Name(s): 8465-01-420-4920—Liner, Foam Impact

Authorized Source of Supply: Georgia Industries for the Blind, Bainbridge, GA

Contracting Activity: DLA TROOP SUPPORT, PHILADELPHIA, PA

NSN(s)—Product Name(s): 1005-00-NIB-0016—Guard, Gun Barrel, Black, One Size Fits All

Authorized Source of Supply: The Lighthouse for the Blind Inc., New Orleans, LA

Contracting Activity: DLA LAND AND MARITIME, COLUMBUS, OH

NSN(s)—Product Name(s):

8405-01-443-9633—Parka, Rain Suit for Wet Weather, Army, Woodland Camouflage, XX Large

8405-01-443-9606—Parka, Rain Suit for Wet Weather, Army, Woodland Camouflage, XX Small

8405-01-443-9498—Trousers, Rain Suit for Wet Weather, Army, Men's, Woodland Camouflage, XX Large

8405-01-443-9430—Trousers, Rain Suit for Wet Weather, Army, Men's, Woodland Camouflage, XX Small

8405-01-443-9436—Trousers, Rain Suit for Wet Weather, Army, Men's, Woodland Camouflage, X Small

8405-01-443-9449—Trousers, Rain Suit for Wet Weather, Army, Men's, Woodland Camouflage, Small

8405-01-443-9487—Trousers, Rain Suit for Wet Weather, Army, Men's, Woodland Camouflage, Medium

8405-01-443-9488—Trousers, Rain Suit for Wet Weather, Army, Men's, Woodland Camouflage, Large

8405-01-443-9493—Trousers, Rain Suit for Wet Weather, Army, Men's, Woodland Camouflage, X Large

8405-01-443-9612—Parka, Rain Suit for Wet Weather, Army, Woodland Camouflage, X Small

8405-01-443-9618—Parka, Rain Suit for Wet Weather, Army, Woodland Camouflage, Small

8405-01-443-9622—Parka, Rain Suit for Wet Weather, Army, Woodland Camouflage, Medium

8405-01-443-9626—Parka, Rain Suit for Wet Weather, Army, Woodland Camouflage, Large

8405-01-443-9630—Parka, Rain Suit for Wet Weather, Army, Woodland Camouflage, X Large

8415-01-527-1537—Trousers, Wet Weather—Rainsuit, Army, Universal Camouflage, XX Small

8415-01-527-1541—Trousers, Wet Weather—Rainsuit, Army, Universal Camouflage, X Small

8415-01-527-1545—Trousers, Wet Weather—Rainsuit, Army, Universal Camouflage, Small

8415-01-527-1551—Trousers, Wet Weather—Rainsuit, Army, Universal Camouflage, Medium

8415-01-527-1555—Trousers, Wet Weather—Rainsuit, Army, Universal Camouflage, Large

8415-01-527-1560—Trousers, Wet Weather—Rainsuit, Army, Universal Camouflage, X Large

8415-01-527-1561—Trousers, Wet Weather—Rainsuit, Army, Universal Camouflage, XX Large

8415-01-527-4610—Parka, Rain Suit for Wet Weather, Army, Universal Camouflage, XX Small

8415-01-527-4611—Parka, Rain Suit for Wet Weather, Army, Universal Camouflage, X Small

8415-01-527-4612—Parka, Rain Suit for Wet Weather, Army, Universal Camouflage, Small

8415-01-527-4614—Parka, Rain Suit for Wet Weather, Army, Universal Camouflage, Medium

8415-01-527-4616—Parka, Rain Suit for Wet Weather, Army, Universal Camouflage, Large

8415-01-527-4617—Parka, Rain Suit for Wet Weather, Army, Universal Camouflage, X Large

8415-01-527-4618—Parka, Rain Suit for Wet Weather, Army, Universal Camouflage, XX Large

Authorized Source of Supply: ORC Industries, Inc., La Crosse, WI

Contracting Activity: DLA TROOP SUPPORT, PHILADELPHIA, PA

NSN(s)—Product Name(s): 5820-00-930-3435—Clamp Fastener

Authorized Source of Supply: Sunshine Services, Knoxville, TN

Contracting Activity: DLA AVIATION, RICHMOND, VA

NSN(s)—Product Name(s): 6515-00-690-6911—Kit, Suture Removal, Sterile, Disposable

7930-00-NIB-0581—TriBase Cleaner, Multi-Purpose,Concentrate, 2 Liter

7930-00-NIB-0582—BioRenewables Cleaner, Glass, Concentrate, 2 Liter

Authorized Source of Supply: Washington-Greene County Branch, PAB, Washington, PA

Contracting Activity: STRATEGIC ACQUISITION CENTER, FREDERICKSBURG, VA

NSN(s)—Product Name(s): 6532-01-098-8344—Robe, Dressing, Size Medium

6532-01-098-8345—Robe, Dressing, Size Large Long

Authorized Source of Supply: TradeWinds Services, Inc., Merrillville, IN

Contracting Activity: DLA TROOP SUPPORT, PHILADELPHIA, PA

NSN(s)—Product Name(s): 1420-01-049-5358—Cover, Protective, Nylon

6920-01-089-4401—Enclosure, Ballistic Protective

1260-01-244-2833—Pouch Cover

5340-00-NSH-0005—Panel, Side Flex

5340-00-NSH-0004—MSL TECH-INTEG-PDAMS

Authorized Source of Supply: Huntsville Rehabilitation Foundation, Inc., Huntsville, AL

Contracting Activity: DLA AVIATION, RICHMOND, VA and W4T8 USASMDC, HUNTSVILLE, AL

NSN(s)—Product Name(s):

7930-00-NIB-0759—Detergent, General Purpose, Cleaner/Degreaser, Biodegradable, Ready-to-Use, Spray Bottle, 22 oz

7930-00-NIB-0760—Detergent, General Purpose, Cleaner/Degreaser, Biodegradable, Ready-to-Use, Spray Bottle, 16 oz

Authorized Source of Supply: Lighthouse for the Blind of Houston, Houston, TX

Contracting Activity: GSA/FSS GREATER SOUTHWEST ACQUISITI, FORT WORTH, TX

Service(s)

Service Type: Shelf Stocking & Custodial

Mandatory for: Fort Hood: Fort Hood Commissary II, Warrior Way, Fort Hood, TX

Authorized Source of Supply: Mavagi Enterprises, Inc., San Antonio, TX

Contracting Activity: DEFENSE COMMISSARY AGENCY (DECA)

Service Type: Shelf Stocking, Custodial & Warehousing

Mandatory for: Port Hueneme Naval Construction Battalion Center, Port Hueneme, CA

Authorized Source of Supply: Goodwill Industries of Southern California, Panarama City, CA

Contracting Activity: DEFENSE COMMISSARY AGENCY (DECA)

Service Type: Shelf Stocking, Custodial & Warehousing

Mandatory for: McChord Air Force Base, McChord AFB, WA

Authorized Source of Supply: AtWork!, Bellevue, WA

Contracting Activity: DEFENSE COMMISSARY AGENCY (DECA)

Service Type: Shelf Stocking & Custodial

Mandatory for: Defense Commissary Agency, Moffett Federal Airfield Commissary, Moffett Field, CA

Authorized Source of Supply: PRIDE Industries, Roseville, CA

Contracting Activity: DEFENSE COMMISSARY AGENCY (DECA)

Service Type: Warehousing

Mandatory for: Fort Hood II Commissary, Warrior Way Building 85020, Fort Hood, TX

Authorized Source of Supply: CW Resources, Inc., New Britain, CT

Contracting Activity: DEFENSE COMMISSARY AGENCY (DECA)

Service Type: Shelf Stocking, Custodial & Warehousing

Mandatory for: Defense Commissary Agency, Bremerton NBK Commissary, Bremerton, WA

Authorized Source of Supply: Peninsula Services, Bremerton, WA

Contracting Activity: DEFENSE COMMISSARY AGENCY (DECA)

Service Type: Warehousing

Mandatory for: Redstone Arsenal, Huntsville, AL

Contracting Activity: DEFENSE COMMISSARY AGENCY (DECA)

Service Type: Shelf Stocking, Custodial & Warehousing

Mandatory for: Tyndall Air Force Base, Tyndall AFB, FL

Contracting Activity: DEFENSE COMMISSARY AGENCY (DECA)

Service Type: Document Destruction

Mandatory for: Social Security Administration, Regional Office, Dallas, TX

Contracting Activity: SOCIAL SECURITY ADMINISTRATION, SSA OFC OF ACQUISITION GRANTS

Service Type: Contact Center Services

Mandatory for: Office of the Comptroller of the Currency, 400 7th Street SW #3e, Washington, DC

Authorized Source of Supply: Peckham Vocational Industries, Inc., Lansing, MI

Contracting Activity: OFFICE OF THE COMPTROLLER OF THE CURRENCY, DEPT OF TREAS/COMPTROLLER OF THE CURRENCY

Service Type: Grounds Maintenance

Mandatory for: U.S. Army Reserve, Huntsville AFRC, Huntsville, TX

Authorized Source of Supply: Rising Star Resource Development Corporation, Dallas, TX

Contracting Activity: DEPT OF THE ARMY, W076 ENDIST LITTLE ROCK

Service Type: Records Management

Mandatory for: U.S. Navy, Military Sealift Command, Naval Station Norfolk, Norfolk, VA

Authorized Source of Supply: VersAbility Resources, Inc., Hampton, VA

Contracting Activity: DEPT OF THE NAVY, MSC NORFOLK

Michael R. Jurkowski,
Director, Business Operations.

[FR Doc. 2025-07653 Filed 5-1-25; 8:45 am]

BILLING CODE 6353-01-P